DEPARTMENT OF THE INTERIOR

Bureau of Reclamation

[RR02015200, XXXR0680R1, RR.17520306.0000006]

Notice of Availability of the Final Environmental Impact Report/Environmental Impact Statement/Environmental Impact Statement, Upper Truckee River and Marsh Restoration Project, El Dorado County, California

AGENCY: Bureau of Reclamation, Interior.

ACTION: Notice.

SUMMARY: The Bureau of Reclamation, the California Tahoe Conservancy (Conservancy), and the Tahoe Regional Planning Agency have prepared the final Environmental Impact Report/Environmental Impact Statement/Environmental Impact Statement (EIR/EIS/EIS) for the Upper Truckee River and Marsh Restoration Project (Project). The purpose of the Project is to restore natural geomorphic processes and improve ecological functions and values in this lowest reach of the Upper Truckee River and the surrounding marsh and help reduce the river's discharge of nutrients and sediment that diminish Lake Tahoe's clarity.

DATES: Reclamation will not make a decision on the proposed action until at least 30 days after the release of the final EIR/EIS/EIS. After the 30-day waiting period, Reclamation will complete a Record of Decision (ROD). The ROD will state the action that will be implemented and will discuss all factors leading to the decision.

ADDRESSES: Send written correspondence or requests for the document to Scott Carroll, Environmental Planner, State of California, California Tahoe Conservancy, 1061 Third Street, South Lake Tahoe, CA 96150; by fax to (530) 542-5567; or by email to scott.carroll@tahoe.ca.gov.

The final EIR/EIS/EIS is accessible at the following Web sites:

• http://tahoe.ca.gov/upper-truckee-marsh-69.aspx.

• http://www.usbr.gov/mp/nepa/nepa_projdetails.cfm?Project_ID=2937.

To request a compact disc of the final EIR/EIS/EIS, please contact Mr. Carroll as indicated above, or call (530) 543-6062. See the SUPPLEMENTARY INFORMATION section for locations where paper copies of the final EIR/EIS/EIS are available for public review.

FOR FURTHER INFORMATION CONTACT: Scott Carroll, California Tahoe Conservancy, at scott.carroll@tahoe.ca.gov, or (530) 543-6062; or Shannon Friedman, Tahoe Regional Planning Agency, at sfriedman@trpa.org., or (775) 589-5205; and Rosemary Stefani, Bureau of Reclamation, at (916) 978-5045, or rstefani@usbr.gov.

SUPPLEMENTARY INFORMATION: The approximately 592-acre project area is along the most downstream reaches of the Upper Truckee River and Trout Creek, including their mouths at Lake Tahoe in the City of South Lake Tahoe, within El Dorado County, California. It includes 1.8-miles of the Upper Truckee River as well as the marsh and meadows surrounding the lowest reaches of Trout Creek. The majority of the project area is owned by the Conservancy though the Project does include small areas owned by other public agencies and private landowners.

Four action alternatives (Alternatives 1-4), and the No-Project/No-Action Alternative (Alternative 5), were analyzed in the draft EIR/EIS/EIS. None of the alternatives evaluated in the draft EIR/EIS/EIS were designated as preferred. Rather, guiding principles were developed requiring that each alternative be designed as a “full-spectrum” alternative that addressed, to varying degrees, all project objectives and design directives; be modular in nature, such that recreation access and infrastructure components could be interchangeable with habitat restoration and protection measures proposed; and embody a diverse range of feasible and implementable concepts, consistent with constraints identified and mapped early in the planning process. After input from responsible and interested agencies, and public comments provided on the draft EIR/EIS/EIS, and through additional outreach efforts, the lead agencies used a qualitative system to weigh the pros and cons of the alternatives to develop the Preferred Alternative described following the action alternatives below.

Alternative 1 would involve restoration of the Upper Truckee River by increasing channel length and decreasing channel capacity. Alternative 1 includes maximum recreation access and infrastructure on the perimeter of the marsh, including a bridge and board walk. Alternative 2 would involve river restoration by directly raising the streambed elevation, increasing the channel length, and decreasing channel capacity. A key element of this alternative's restoration component would be the excavation of a new river channel that has less capacity than the existing channel. Alternative 2 includes a minimum recreation access and infrastructure design approach, focusing primarily on habitat protection features. Alternative 3 would promote the development, through natural processes, of a new main channel and/or distributary channels in the central portion of the project area. A “pilot” channel would be constructed from the existing river channel to historical channels in the center of the project area, but no construction would occur in the central or northern portions of the project area. Rather, natural processes would be allowed to dictate the flow path(s), bed and bank elevations, and capacities of the channel(s) through the central and northern portions of the project area. Alternative 3 would include a moderate level of recreation access and infrastructure, including more signage, more trail development, and viewpoints than proposed under Alternative 2 but less than Alternative 1. Alternative 4 would restore the river channel and its connection to the floodplain by lowering bank heights by excavating an inset floodplain along much of the river channel, and by localized cut and fill to create meanders in the existing straightened reach. Alternative 4 would include a similar level of recreation infrastructure as Alternative 3. Alternative 5 would not provide any actions to restore the river channel and its connection to the floodplain or recreation features beyond maintaining existing infrastructure in the project area. This alternative would allow, but not facilitate the long-term, passive recovery of the river system via natural processes. This alternative represents a projection of reasonably foreseeable future conditions that could occur if no project actions were implemented.

The Preferred Alternative includes the most beneficial and cost-effective elements of the five alternatives evaluated in the draft EIR/EIS/EIS. This alternative is also the most feasible, the most highly responsive to public comments, and the most resilient to the potential impacts of climate change. It includes the following components:

• Alternative 3 restoration elements which involve construction of a small pilot channel that would reconnect the Upper Truckee River to the middle of the marsh to attain ecosystem and water quality improvements. This concept proposes the most geomorphically appropriate channel configuration allowing the pilot channel to strategically connect the current river alignment to historic channels and lagoons. The river would form its own pattern and spread over the expanse of the marsh, resulting in substantial benefits to habitats, wildlife, and water quality. The abandoned sections of existing river channel would be largely filled to create restored meadow and expanded wetlands.

• Alternative 5 for recreation elements on the east side of the Upper Truckee Marsh that would maintain the current dispersed recreation experience. No new recreation infrastructure would be installed and public access would be afforded through the current informal user-created trail system. The Conservancy would continue to manage and reduce the impacts of recreational use and new trails while providing on-site signage.

• Alternative 3 recreation elements for the west side of the Upper Truckee Marsh would upgrade the recreation infrastructure through construction of ADA-accessible trails to Lake Tahoe and formalized viewpoints that provide interpretive and site-information signage. The developed recreation experience would be maintained consistent with natural resource values.

• Previously proposed only under Alternatives 1 and 2, the Preferred Alternative would also include the restoration of sand ridges (“dunes”) at Cove East Beach that were graded and leveled as part of the Tahoe Keys development and the removal of fill at the east end of Barton Beach to create a restored lagoon.

The detailed description of the Preferred Alternative, the selection process, and a summary of Alternatives 1 through 5 are presented in Chapter 2 of the final EIR/EIS/EIS.

A Notice of Availability of the draft EIR/EIS/EIS was published in the Federal Register on February 26, 2013 (78 FR 13082). The comment period on the draft EIR/EIS/EIS ended on April 29, 2013. The final EIR/EIS/EIS contains responses to all comments received and reflects comments and any additional information received during the review period.

Copies of the final EIR/EIS/EIS are available for public review at the following locations:

• State of California, California Tahoe Conservancy, 1061 Third Street, South Lake Tahoe, CA 96150.

• Tahoe Regional Planning Agency front desk, 128 Market Street, Stateline, NV 89449.

• Mid-Pacific Regional Library, Bureau of Reclamation, 2800 Cottage Way, Sacramento, CA 95825.

Public Disclosure

Before including your address, phone number, email address, or other personal identifying information in any correspondence, you should be aware that your entire correspondence—including your personal identifying information—may be made publicly available at any time. While you may ask us in your correspondence to withhold your personal identifying information from public review, we cannot guarantee that we will be able to do so.

Dated: November 20, 2015.
Jason R. Phillips,
Deputy Regional Director, Mid-Pacific Region.

[FR Doc. 2015-31230 Filed 12-10-15; 8:45 am]

BILLING CODE 4332-90-P-P